DEPARTMENT OF HOMELAND SECURITY

Coast Guard

[Docket No. USCG-2023-0397]

National Towing Safety Advisory Committee; September 2023 Meetings

AGENCY: U.S. Coast Guard, Department of Homeland Security.

ACTION: Notice of Federal Advisory Committee meeting.

SUMMARY: The National Towing Safety Advisory Committee (Committee) will conduct a series of meetings over two days in New Orleans, LA to review and discuss matters relating to shallow-draft inland navigation, coastal waterway navigation, and towing safety. These meetings will be open to the public.

DATES:

Meetings: National Towing Safety Advisory Committee will have subcommittee working sessions on Tuesday, September 26, 2023, from 8 a.m. until 5 p.m. Central Daylight Time. The full Committee will meet on Wednesday, September 27, 2023, from 8 a.m. until 5 p.m. (CDT). Please note these meetings may close early if the Committee has completed its business.

Comments and supporting documentation: To ensure your comments are received by Committee members before the meeting, submit your written comments no later than September 13, 2023.

ADDRESSES: The meeting will be held at the Omni Riverfront Hotel, 701 Convention Center Boulevard, New Orleans, LA 70130.

The National Towing Safety Advisory Committee is committed to ensuring all participants have equal access regardless of disability status. If you require reasonable accommodation due to a disability to fully participate, please email Mr. Matthew D. Layman at Matthew.D.Layman@uscg.mil or call at 202-372-1421 as soon as possible.

Instructions: You are free to submit comments at any time, including orally at the meetings as time permits, but if you want Committee members to review your comment before the meetings, please submit your comments no later than September 13, 2023. We are particularly interested in comments on the topics in the “Agenda” section below. We encourage you to submit comments through Federal eRulemaking Portal at https://www.regulations.gov. If your material cannot be submitted using https://www.regulations.gov, email the individual in the FOR FURTHER INFORMATION CONTACT section of this document for alternate instructions. You must include the docket number USCG-2023-0397. Comments received will be posted without alteration at https://www.regulations.gov including any personal information provided. You may wish to review the Privacy and Security Notice found via a link on the homepage of https://www.regulations.gov, and DHS's eRulemaking System of Records notice (85 FR 14226, March 11, 2020). For more about privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov, and can be viewed by following that website's instructions. Additionally, if you go to the online docket and sign-up for email alerts, you will be notified when comments are posted.

FOR FURTHER INFORMATION CONTACT: Mr. Matthew D. Layman, Designated Federal Officer of the National Towing Safety Advisory Committee, 2703 Martin Luther King Jr Ave SE, Stop 7509, Washington, DC 20593-7509, telephone 202-372-1421, or Matthew.D.Layman@uscg.mil.

SUPPLEMENTARY INFORMATION: Notice of these meetings is in compliance with Federal Advisory Committee Act, (Pub. L. 117-286, 5 U.S.C., ch. 10). The National Towing Safety Advisory Committee is authorized by section 601 of the Frank LoBiondo Coast Guard Authorization Act of 2018, (Pub. L. 115-282, 132 Stat. 4192), and is codified in 46 U.S.C. 15108. The Committee operates under the provisions of the Federal Advisory Committee Act and 46 U.S.C. 15109. The National Towing Safety Advisory Committee provides advice and recommendations to the Secretary of Homeland Security through the Commandant of the U.S. Coast Guard, on matters related to shallow-draft inland navigation, coastal waterway navigation, and towing safety.

Agenda

The agenda for the National Towing Safety Advisory Committee is as follows:

The Committee Meeting Agenda, September 26, 2023

I. Opening

a. Call to order and DFO Remarks.

b. NTSAC Chairperson Remarks.

II. Subcommittee Breakout Working Session

a. Subcommittees: Task #21-03, Report On the Anticipated Challenges Expected to Impact the Towing Vessel Industry;

b. Task #21-04, Report on the Challenges Faced by the Towing Vessel Industry as a Result of the Covid-19 Pandemic;

c. Task #22-01, Recommendations to the Coast Guard for Rulemaking Improvements to Subchapter M;

d. Task #22-02, Recommendation for Training and Instruction for Crewmembers Working Aboard Subchapter M Inspected Towing Vessels.

IV. Full Committee Working Session

a. U.S. Coast Guard Administrative Business.

b. Review of New Task Statements.

V. Adjournment of meeting

The Committee Meeting Agenda, September 27, 2023

I. Opening

a. Call to Order and DFO Remarks.

b. Committee Chairperson Remarks.

c. Roll Call and Determination of Quorum.

d. U.S. Coast Guard Leadership Remarks.

II. Administration

a. Adoption of Meeting Agenda.

b. Approval of Meeting Minutes for April 12, 2023 Committee Meeting.

III. Old Business

a. Update from Subcommittees:

○ Task #21-03, Report On the Anticipated Challenges Expected to Impact the Towing Vessel Industry;

○ Task #21-04, Report on the Challenges Faced by the Towing Vessel Industry as a Result of the Covid-19 Pandemic;

○ Task #22-01, Recommendation to the Coast Guard for Rulemaking Improvements to Subchapter M;

○ Task #22-02, Recommendation for Training and Instruction for Crewmembers Working Aboard Subchapter M Inspected Towing Vessels.

b. Vetting Subcommittee Update.

IV. New Business

a. Committee Planning.

V. Information Session

a. U.S. Coast Guard Sector New Orleans.

b. CG-INV, Sexual Assault and Sexual Harassment (SASH) Reporting.

c. Towing Vessel National Center of Expertise, 46 CFR Subchapter M Compliance.

d. District 8 Towing Vessel Coordinator.

e. Marine Compliance Alliance.

VI. Committee Discussion

VII. Public Comment Period

VIII. Closing Remarks and Plans for Next Meeting

IX. Adjournment of Meeting

A copy of all pre-meeting documentation, and referenced National Towing Safety Advisory Committee Task Statements, will be available at https://www.dco.uscg.mil/Our-Organization/Assistant-Commandant-for-Prevention-Policy-CG-5P/Commercial-Regulations-standards-CG-5PS/Office-of-Operating-and-Environmental-Standards/vfos/TSAC/no later than September 13, 2023. Alternatively, you may contact Mr. Matthew Layman as noted above in the FOR FURTHER INFORMATION CONTACT section above.

There will be a public comment period at the end of the meetings. Speakers are requested to limit their comments to 3 minutes. Please note that the public comment period may end before the period allotted, following the last call for comments. Please contact the individual listed in the FOR FURTHER INFORMATION CONTACT SECTION to register as a speaker.

Dated: August 28, 2023.
Jeffrey G. Lantz,
Director of Commercial Regulations and Standards.

[FR Doc. 2023-19760 Filed 9-12-23; 8:45 am]

BILLING CODE 9110-04-P